ENVIRONMENTAL PROTECTION AGENCY

[FRL-9384-01-R8]

Administrative Settlement Agreement and Order on Consent: Rico-Argentine Site, Rico, Dolores County, Colorado

AGENCY: Environmental Protection Agency (EPA).

ACTION: Notice of proposed agreement; request for public comment.

SUMMARY: In accordance with the requirements of the Comprehensive Environmental Response, Compensation, and Liability Act of 1980, as amended (“CERCLA”), notice is hereby given of the proposed settlement under CERCLA, between the U.S. Environmental Protection Agency (“EPA”), and Atlantic Richfield Company (“Settling Party”) to resolve its alleged civil liability at the Rico-Argentine Site in Dolores County, Colorado. For thirty (30) days following the date of publication of this notice, the Agency will receive written comments relating to the agreement. The Agency will consider all comments received and may modify or withdraw its consent to the agreement if comments received disclose facts or considerations that indicate that the agreement is inappropriate, improper, or inadequate.

DATES: Comments must be submitted on or before February 22, 2022.

ADDRESSES: To reduce the risk of COVID-19 transmission, for this action we do not plan to offer hard copy review of the docket. Comments and requests for a copy of the proposed agreement should be addressed to Anntasia Copeland, Enforcement Specialist, Superfund and Emergency Management Division, Environmental Protection Agency—Region 8, Mail Code 8SEM-PAB, 1595 Wynkoop Street, Denver, Colorado 80202, (303) 312-6764, copeland.anntasia@epa.gov and should reference the Rico-Argentine Site.

FOR FURTHER INFORMATION CONTACT: Amelia Piggott, Senior Assistant Regional Counsel, Office of Regional Counsel, Environmental Protection Agency—Region 8, Mail Code 8ORC-LEC, 1595 Wynkoop Street, Denver, Colorado 80202, (303) 312-6410, piggott.amelia@epa.gov.

SUPPLEMENTARY INFORMATION: The proposed Settlement Agreement is for the performance of a removal action by the Settling Party and the payment of certain response costs incurred by the United States. This Settlement supersedes and replaces in its entirety, and, as of the Effective Date, terminates the Unilateral Administrative Order for Removal Action, docket number CERCLA-08-2011-0005 (UAO) that EPA issued to the Settling Party on March 17, 2011, under which Respondent has implemented certain response actions, including addressing settling ponds and constructing a pilot water treatment system to treat acid mine drainage coming from the St. Louis Tunnel. The purpose of this Settlement is to provide for: Settling Party's payment of certain past response costs, as well as design, construction, operation, and monitoring of a full-scale water treatment system to remove hazardous substances from the St. Louis Tunnel discharge, hydraulic control measures for the collapsed St. Louis Tunnel adit, and solids management facilities; and EPA's oversight of the implementation of such Work at the Site. The Settling Party consents to and will not contest the authority of the United States to enter into the Agreement or to implement or enforce its terms. The Settling Party recognizes that the Agreement has been negotiated in good faith and that the Agreement is entered into without the admission or adjudication of any issue of fact or law.

Betsy Smidinger,
Division Director, Superfund and Emergency Management Division, Environmental Protection Agency, Region VIII.

[FR Doc. 2022-00992 Filed 1-19-22; 8:45 am]

BILLING CODE 6560-50-P